NUCLEAR REGULATORY COMMISSION

[Docket No. 50-313]

Entergy Operations, Inc., Arkansas Nuclear One, Unit 1; Environmental Assessment and Finding of No Significant Impact

The U.S. Nuclear Regulatory Commission (NRC) is considering issuance, to Entergy Operations, Inc. (the licensee), of an exemption from Title 10 of the Code of Federal Regulations (10 CFR) Part 50, Section III.G of Appendix R. The licensee is the holder of Renewed Facility Operating License No. DPR-51, for operation of Arkansas Nuclear One, Unit 1 (ANO-1), located in Pope County, Arkansas. Therefore, as required by 10 CFR 51.21, the NRC is issuing this environmental assessment and finding of no significant impact.

Environmental Assessment

Identification of the Proposed Action

The proposed action would exempt the licensee from certain requirements of Section III.G of Appendix R, “Fire Protection Program for Nuclear Power Facilities Operating Prior to January 1, 1979.” Specifically, this exemption applies to requirements for fire barriers for the auxiliary lube oil pump and associated conduits in the ANO-1 makeup pump rooms.

The proposed action is in accordance with the licensee's application dated June 8, 2001.

The Need for the Proposed Action

The proposed action is needed to resolve an issue involving the auxiliary lube oil pumps and associated conduits which are used during the starting of a reactor coolant makeup pump. The licensee was granted an exemption on March 22, 1983, which exempted the makeup pump rooms from the requirement to have an automatic fire suppression system. The equipment identified in the exemption as being needed for safe shutdown included the makeup pumps, the service water to lube oil cooler isolation valves, and associated cabling. The licensee subsequently classified the auxiliary lube oil pump (and associated conduits) as required for safe shutdown. Because the auxiliary lube oil pump was not addressed in the previous exemption, the licensee needed to either request a specific exemption or provide specific fire protection features for the auxiliary lube oil pump.

Environmental Impacts of the Proposed Action

The NRC has completed its evaluation of the proposed action and concludes that the proposed exemption does not involve radioactive wastes, release of radioactive material into the atmosphere, solid radioactive waste, or liquid effluents released to the environment.

The proposed action will not significantly increase the probability or consequences of accidents, no changes are being made in the types or amounts of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement related to the operation of ANO-1 (NUREG-0254) dated February 1973, and the Final Supplemental Environmental Impact Statement regarding ANO-1 (NUREG-1437, Supplement 3) dated April 2001.

Agencies and Persons Consulted

On August 26, 2002, the staff consulted with the Arkansas State official, Jared Thompson, of the Arkansas Department of Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated June 8, 2001. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 6th day of September 2002.
For the Nuclear Regulatory Commission.
Robert A. Gramm,
Chief, Section 1, Project Directorate IV, Division of Licensing Project Management, Office of Nuclear Reactor Regulation.

[FR Doc. 02-23204 Filed 9-11-02; 8:45 am]

BILLING CODE 7590-01-P